DEPARTMENT OF DEFENSE

Office of the Secretary

Reserve Forces Policy Board (RFPB); Notice of Federal Advisory Committee Meeting; Cancellation of Meeting

AGENCY: Office of the Secretary of Defense, Reserve Forces Policy Board, DoD.

ACTION: Notice of Federal Advisory Committee meeting; cancellation of meeting.

SUMMARY: On Friday, September 13, 2013 (78 FR 56680-56681), the Department of Defense published a notice announcing a meeting of the Reserve Forces Policy Board (RFPB) that was to take place on Wednesday, October 2, 2013. The meeting of October 2, 2013 was cancelled.

FOR FURTHER INFORMATION CONTACT: Reserve Forces Policy Board. (703) 681-0600 (Voice), (703) 681-0002 (Facsimile), Mailing address is Reserve Forces Policy Board, 5113 Leesburg Pike, Suite 601, Falls Church, VA 22041. Web site: http://ra.defense.gov/rfpb/. The most up-to-date changes to the meeting can be found on the RFPB Web site.

SUPPLEMENTARY INFORMATION: Due to the uncertainty surrounding the Fiscal Year 2014 budget, the previously scheduled meeting of October 2, 2013, of the Reserve Forces Policy Board the requirements of 41 CFR 102-3.150(a) were not met. Accordingly, the Advisory Committee Management Officer for the Department of Defense, pursuant to 41 CFR 102-3.150(b), waives the 15-calendar day notification requirement.

Dated: September 30, 2013.
Aaron Siegel,
Alternate OSD Federal Register Liaison Officer, Department of Defense.

[FR Doc. 2013-24228 Filed 10-2-13; 8:45 am]

BILLING CODE 5001-06-P